DEPARTMENT OF COMMERCE

National Oceanic and Atmospheric Administration

RIN 0648-XG511

North Pacific Fishery Management Council; Public Meeting

AGENCY: National Marine Fisheries Service (NMFS), National Oceanic and Atmospheric Administration (NOAA), Commerce.

ACTION: Notice of public meeting.

SUMMARY: The North Pacific Fishery Management Council (Council) Charter Halibut Management Committee will meet in October, in Anchorage, AK.

DATES: The meeting will be held on Tuesday, October 30, 2018 from 10 a.m. to 4 p.m. AKDT time.

ADDRESSES: The meeting will be held in the Old Federal Building, 605 W 4th Ave., Suite 205, Anchorage, AK 99501-2252. Teleconference line: (907) 271-2896.

Council address: North Pacific Fishery Management Council, 605 West 4th Ave., Suite 306, Anchorage, AK 99501-2252; telephone: (907) 271-2809.

FOR FURTHER INFORMATION CONTACT: Steve MacLean, Council staff; telephone: (907) 271-2809.

SUPPLEMENTARY INFORMATION:

Agenda

Tuesday, October 30, 2018

The purpose of the Charter Halibut Management Committee meeting is to identify a range of potential management measures for the Area 2C and Area 3A charter halibut fisheries in 2019 using the management measures in place for 2018 as a baseline. For Area 2C, the baseline management measure includes regulations applicable to charter halibut fishing in all areas, and a daily limit of one fish less than or equal to 38 inches or greater than or equal to 80 inches. For Area 3A, the baseline management measure includes regulations applicable to charter halibut fishing in all areas, and an annual limit of 4 fish, a daily limit of two fish, one fish of any size, and a second fish which must be 28 inches or less in length. No charter halibut fishing on Wednesdays, all year, and no charter halibut fishing on July 10, July 17, July 24, July 31, August 7, and August 14. Committee recommendations will be incorporated into an analysis for Council review in December 2018. The Council will recommend preferred management measures for consideration by the International Pacific Halibut Commission at its January 2019 meeting, for implementation in 2019.

Resources will be available on the Council's Charter Halibut Management Committee web page at https://www.npfmc.org/halibut-charter-management/charter-management-committee/. The Agenda is subject to change, and the latest version will be posted at: https://www.npfmc.org/committees/charter-management-committee.

Public Comment

Public comment letters will be accepted and should be submitted either electronically to Steve MacLean, Council staff: steve.maclean@noaa.gov or through the mail: North Pacific Fishery Management Council, 605 West 4th Ave., Suite 306, Anchorage, AK 99501-2252. In-person oral public testimony will be accepted at the discretion of the chairman.

Special Accommodations

The meeting is physically accessible to people with disabilities. Requests for sign language interpretation or other auxiliary aids should be directed to Shannon Gleason at (907) 271-2809 at least 7 working days prior to the meeting date.

Dated: October 5, 2018.
Tracey L. Thompson,
Acting Deputy Director, Office of Sustainable Fisheries, National Marine Fisheries Service.

[FR Doc. 2018-22199 Filed 10-11-18; 8:45 am]

BILLING CODE 3510-22-P